DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations begin or threatened to begin and the subdivision of the firm involved.

The petitioners or any other persons showing a substantial interest in the subject matter of the investigations may request a public hearing, provided such request is filed in writing with the Director, Division of Trade Adjustment Assistance, at the address shown below, not later than September 2, 2003.

Interested persons are invited to submit written comments regarding the subject matter of the investigations to the Director, Division of Trade Adjustment Assistance, at the address shown below, not later than September 2, 2003.

The petitions filed in this case are available for inspection at the Office of the Director, Division of Trade Adjustment Assistance, Employment and Training Administration, U.S. Department of Labor, Room C-5311, 200 Constitution Avenue, NW., Washington, DC 20210.

Signed at Washington, DC, this 7th day of August, 2003.
Linda G. Poole,
Acting Director, Division of Trade Adjustment Assistance.

Appendix
[Petitions Instituted Between 07/28/2003 and 08/01/2003]
TA-W | Subject firm (petitioners) | Location | Date of institution | Date of petition
52,407 | Jonathan Reid, Inc (Comp) | Lumberton, NC | 07/28/2003 | 07/22/2003
52,408 | Texas Steel Partners (TX) | Ft. Worth, TX | 07/28/2003 | 06/23/2003
52,409 | Baxter Healthcare, Inc. (PACE) | Rochester, MI | 07/28/2003 | 07/20/2003
52,410 | Radio Frequency Services (Comp) | Wilkesboro, NC | 07/28/2003 | 07/17/2003
52,411 | Elastic Corp. of America, Inc. (Comp) | Asheboro, NC | 07/28/2003 | 07/22/2003
52,412 | Lear Corporation (UAW) | Elsie, MI | 07/28/2003 | 06/23/2003
52,413 | Honeywell International, Inc. (Comp) | Mars Hill, NC | 07/29/2003 | 07/21/2003
52,414 | Actco Tool and Manufacturing Company (Wkrs) | Meadville, PA | 07/29/2003 | 07/17/2003
52,415 | Today's Plastics (AR) | Booneville, AR | 07/29/2003 | 07/29/2003
52,416 | Jolly Gardener (Wkrs) | Poland, ME | 07/29/2003 | 07/27/2003
52,417 | Pennsylvania House (USWA) | Lewisburg, PA | 07/29/2003 | 07/17/2003
52,418 | Tyler Pipe (TX) | Tyler, TX | 07/29/2003 | 07/23/2003
52,419 | Nestaway (UAW) | Cleveland, OH | 07/29/2003 | 07/16/2003
52,420 | Sea Hawk Seafoods, Inc. (Comp) | Valdez, AK | 07/30/2003 | 07/22/2003
52,421 | John P. O'Connor (Comp) | Dillingham, AK | 07/30/2003 | 07/29/2003
52,422 | Fishing Vessel (F/V) Loon (Comp) | Point Baker, AK | 07/30/2003 | 07/24/2003
52,423 | Fishing Vessel (F/V) Kayla Marie C. (Comp) | Old Harbor, AK | 07/30/2003 | 07/22/2003
52,424 | Emglo Products, LLC (USWA) | Johnstown, PA | 07/30/2003 | 07/29/2003
52,425 | Home Products International (IAMAW) | Eason, MN | 07/30/2003 | 07/29/2003
52,426 | Gretag Imaging, Inc. (CO) | Englewood, CO | 07/30/2003 | 07/28/2003
52,427 | Dan River, Inc. (Wkrs) | Danville, VA | 07/30/2003 | 07/14/2003
52,428 | Edison Fashion, Inc. (AWJB) | Bronx, NY | 07/30/2003 | 07/28/2003
52,429 | Agilent Technologies (Wkrs) | Fort Collins, Co | 07/31/2003 | 07/21/2003
52,430 | New York Air Brake Corporation (Comp) | Watertown, NY | 07/31/2003 | 07/30/2003
52,431 | PFC, Inc. (Comp) | Athens, TN | 07/31/2003 | 07/29/2003
52,432 | Agilent Technologies (CO) | Colorado Sprgs., CO | 07/31/2003 | 07/29/2003
52,433 | Design Engineering (Comp) | New London, IA | 07/31/2003 | 07/17/2003
52,434 | De La Rue Cash Systems (Comp) | Watertown, WI | 07/31/2003 | 07/07/2003
52,435 | Quaker Alloy, Inc. (Comp) | Myerstown, PA | 07/31/2003 | 07/29/2003
52,436 | Empire Steel Castings (Comp) | Laureldale, PA | 07/31/2003 | 07/29/2003
52,437 | Calmar, Inc. (Wkrs) | City Industry, CA | 07/31/2003 | 07/29/2003
52,438 | Consolidated Fab Inc. (Wkrs) | Clinton, SC | 07/31/2003 | 07/17/2003
52,439 | Hudson RCI (Comp) | Temecula, CA | 07/31/2003 | 07/30/2003
52,440 | Thermo King, Inc. (Wkrs) | Louisville, GA | 07/31/2003 | 06/30/2003
52,441 | Conn-Selmer (Comp) | Elkhart, IN | 07/31/2003 | 07/14/2003
52,442 | Fruit of the Loom (Comp) | Harlingen, TX | 07/31/2003 | 07/30/2003
52,443 | Formica Corporation (Comp) | Cincinnati, OH | 08/01/2003 | 07/31/2003
52,444 | Luzenac America (CO) | Centennial, CO | 08/01/2003 | 08/01/2003
52,445 | Baron Drawn Steel Corporation (Comp) | Toledo, OH | 08/01/2003 | 07/21/2003
52,446 | Graphite Design International (Wkrs) | San Diego, CA | 08/01/2003 | 07/22/2003
52,447 | Fisher Controls, LLC (Comp) | N. Stonington, CT | 08/01/2003 | 07/18/2003
52,448 | T.S. Trim Industries (Comp) | Athens, OH | 08/01/2003 | 08/01/2003
52,449 | Springs Industries (Comp) | Gainsville, GA | 08/01/2003 | 07/31/2003

[FR Doc. 03-21273 Filed 8-19-03; 8:45 am]

BILLING CODE 4510-30-M